DEPARTMENT OF HOMELAND SECURITY

Federal Emergency Management Agency

Fee Schedule for Processing Requests for Map Changes, for Flood Insurance Study Backup Data, and for National Flood Insurance Program Map and Insurance Products; Correction

AGENCY: Federal Emergency Management Agency (FEMA), Department of Homeland Security.

ACTION: Notice; correction.

SUMMARY: The Federal Emergency Management Agency published a document in the Federal Register of September 19, 2005, concerning the revised fee schedules for processing certain types of requests for changes to NFIP maps, requests for FIS technical and administrative support data, and requests for particular NFIP map and insurance products. The document contained the incorrect fee associated for processing requests for Conditional Map Revisions based on new hydrology, bridge, culvert, channel, or combination thereof.

FOR FURTHER INFORMATION CONTACT: Doug Bellomo, P.E., Hazard Identification Section, Mitigation Division, FEMA, 500 C Street SW., Washington, DC 20472; by telephone at (202) 646-2903 or by facsimile at (202) 646-4596 (not toll-free calls); or by e-mail at doug.bellomo@dhs.gov.

Correction

In the Federal Register of September 19, 2005, in FR Doc. 05-18555, on page 54956, in the first column, under “Fee Schedule for Requests for Conditional Map Revisions”, correct the fee to read: Request based on new hydrology, bridge, culvert, channel, or combination thereof: $4,000.

(Catalog of Federal Domestic Assistance No. 83.100, “Flood Insurance.”)

Dated: November 29, 2005.
David I. Maurstad,
Acting Director, Mitigation Division, Federal Emergency Management Agency, Department of Homeland Security.

[FR Doc. E5-6866 Filed 12-5-05; 8:45 am]

BILLING CODE 9110-12-P